DEPARTMENT OF DEFENSE

Department of the Navy

Notice of Intent To Grant Exclusive Patent License; VIC Technology Venture Development, LLC

AGENCY: Department of the Navy, DoD.

ACTION: Notice.

SUMMARY: The Department of the Navy hereby gives notice of its intent to grant to VIC Technology Venture Development, LLC a revocable, nonassignable, exclusive license to practice in the field of use of assistive devices for providing enhanced understanding of human speech for hearing-impaired individuals, for communication in acoustically noisy environments, for language interpretation, for voice control of other devices, and for security/surveillance applications in the United States, the Government-owned invention described in U.S. Patent Application No. 13/155,218: Radar Microphone Speech Recognition, Navy Case No. 100,567 and any continuations, divisionals or re-issues thereof.

DATES: Anyone wishing to object to the grant of this license must file written objections along with supporting evidence, if any, not later than August 15, 2014.

ADDRESSES: Written objections are to be filed with the Naval Research Laboratory, Code 1004, 4555 Overlook Avenue SW., Washington, DC 20375-5320.

FOR FURTHER INFORMATION CONTACT: Rita Manak, Head, Technology Transfer Office, NRL Code 1004, 4555 Overlook Avenue SW., Washington, DC 20375-5320, telephone 202-767-3083. Due to U.S. Postal delays, please fax 202-404-7920, email: rita.manak@nrl.navy.mil or use courier delivery to expedite response.

Authority: 35 U.S.C. 207, 37 CFR Part 404.

Dated: July 24, 2014.
N.A. Hagerty-Ford,
Commander, Office of the Judge Advocate General, U.S. Navy, Federal Register Liaison Officer.

[FR Doc. 2014-18018 Filed 7-30-14; 8:45 am]

BILLING CODE 3810-FF-P